DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

2001 National Household Survey on Drug Abuse—(0930-0110, Revision)—SAMHSA's National Household Survey on Drug Abuse (NHSDA) is a survey of the civilian, noninstitutionalized population of the United States 12 years of age and older. The data are used to determine the prevalence of use of tobacco products, alcohol, illicit substances, and illicit use of prescription drugs. The results are used by SAMHSA, the Office of National Drug Control Policy, Federal government agencies, and other organizations and researchers to establish policy, direct program activities, and better allocate resources.

For the 2001 NHSDA, additional questions in the following substantive areas are planned: serious mental illness for adults; one question regarding state Children's Health Insurance Program (CHIP) coverage for respondents (12 to 19 years old); revised questions on tobacco dependence; questions on marketplace issues and knowledge of state laws regarding marijuana use; questions on smoking “bidis” (flavored cigarettes); and two questions that use the “item count” methodology to estimate use of specific hard-core drugs. The remaining modular components of the NHSDA questionnaire will remain essentially unchanged except for minor modifications to wording and selective elimination of sufficient questions to allow for the additional burden of the questions listed above.

As in 1999 and 2000, the sample size of the survey for 2001 will be sufficient to permit prevalence estimates for each of the fifty states and the District of Columbia. The total annual burden estimate is 88,563 hours as shown below:

| No. of respondents | Responses/respondent | Average burden/response (hrs.) | Total burden hours
Household Screener | 210,000 | 1 | 0.083 | 17,430
NHSDA Interview | 70,000 | 1 | 1.000 | 70,000
Screening Verification | 6,405 | 1 | 0.067 | 429
Interview Verification | 10,500 | 1 | 0.067 | 704
Total |  |  |  | 88,563

Written comments and recommendations concerning the proposed information collection should be sent within 30 days of this notice to: SAMHSA Desk Officer, Human Resources and Housing Branch, Office of Management and Budget, New Executive Office Building, Room 10235, Washington, D.C. 20503.

Dated: July 19, 2000.
Richard Kopanda,
Executive Officer, SAMHSA.

[FR Doc. 00-18857 Filed 7-25-00; 8:45 am]

BILLING CODE 4162-20-P